Title 3—

The President

Memorandum of June 19, 2015

Delegation of Authority Pursuant to Section 8 of the United States-Israel Strategic Partnership Act of 2014

Memorandum for the Secretary of State [and] the Secretary of Defense

By the authority vested in me as President by the Constitution and the laws of the United States of America, including section 301 of title 3, United States Code, I hereby delegate the reporting requirement conferred upon the President by section 8 of the United States-Israel Strategic Partnership Act of 2014 (Public Law 113-296) to the Secretary of State. In carrying out the functions under this delegation, the Secretary of State shall consult with the Secretary of Defense and, as appropriate, other departments and agencies.

The Secretary of State is authorized and directed to publish this memorandum in the Federal Register.

THE WHITE HOUSE,

Washington, June 19, 2015

[FR Doc. 2015-17922

Filed 7-17-15; 11:15 am]

Billing code 4710-10